FEDERAL RESERVE SYSTEM

Formations of, Acquisitions by, and Mergers of Bank Holding Companies; Correction

This notice corrects a notice (FR Doc. E6-19396) published on page 66782 of the issue for Thursday, November 16, 2006.

Under the Federal Reserve Bank of Cleveland heading, the entry for Sir Barton Bancorp, Inc., Lexington, Kentucky, is revised to read as follows:

A. Federal Reserve Bank of Cleveland (Douglas A. Banks, Vice President) 1455 East Sixth Street, Cleveland, Ohio 44101-2566:

1. First Corbin Bancorp, Inc. Corbin, Kentucky (formerly known as Sir Barton Bancorp, Inc., Lexington, Kentucky); to acquire 100 percent of the voting shares of Boone National Bank, Burlington, Kentucky, and the following bank holding companies and their subsidiary banks; Tri-County Bancorp, Inc., Corbin, Kentucky (Tri-County National Bank, Corbin, Kentucky); Laurel Bancorp, Inc., Corbin, Kentucky (Laurel National Bank, London, Kentucky); Williamsburg Bancorp, Inc., Corbin, Kentucky (Williamsburg National Bank, Williamsburg, Kentucky); Campbellsville Bancorp, Inc., Corbin, Kentucky (Campbellsville National Bank, Campbellsville, Kentucky); PRP Bancorp, Inc., Corbin, Kentucky (PRP National Bank, Pleasure Ridge Park, Kentucky); Somerset Bancorp, Inc., Corbin, Kentucky (Somerset National Bank, Somerset, Kentucky); and Green County Bancshares, Inc., Corbin, Kentucky, (Deposit Bank & Trust, Greensburg, Kentucky).

Comments on this application must be received by December 11, 2006.

Board of Governors of the Federal Reserve System, November 20, 2006.
Robert deV. Frierson,
Deputy Secretary of the Board.

[FR Doc. E6-19852 Filed 11-22-06; 8:45 am]

BILLING CODE 6210-01-S